COMMISSION ON CIVIL RIGHTS

Notice of Public Meeting of the Maryland Advisory Committee; Correction

AGENCY: U.S. Commission on Civil Rights.

ACTION: Correction: Announcement of meeting.

SUMMARY: The Commission on Civil Rights published a document August 14, 2018, announcing an upcoming Maryland Advisory Committee. The document contained incorrect address to the meeting.

FOR FURTHER INFORMATION CONTACT: Barbara de La Viez, DFO, at bdelaviez@usccr.gov or 202-376-7533.

CORRECTION: In the Federal Register of August 14, 2018, in FR Doc. 2018-17401, on pages 40223-40224 in the first and second columns, delete the “Address” and replace it with Murphy Fine Arts Center, Recital Hall, 2201 Argonne Dr., Baltimore, MD 21251.

Dated: August 20, 2018.
David Mussatt,
Supervisory Chief, Regional Programs Unit.

[FR Doc. 2018-18285 Filed 8-23-18; 8:45 am]

BILLING CODE P